DEPARTMENT OF THE INTERIOR

National Park Service

[NPS-NER-DEWA-15382; PPNEDEWAS0/PROIESUC1.380000]

Boundary Adjustment at Delaware Water Gap National Recreation Area

AGENCY: National Park Service, Interior.

ACTION: Notification of boundary adjustment.

SUMMARY: The boundary of Delaware Water Gap National Recreation Area is adjusted to include four parcels of land totaling 287.99 acres of land, more or less. Fee simple interest in the land will be donated to the United States. The properties are located in Sussex County, New Jersey, and Pike and Monroe Counties, Pennsylvania, adjacent to the current boundary of Delaware Water Gap National Recreation Area.

DATES: The effective date of this boundary revision is May 6, 2014.

ADDRESSES: The map depicting this boundary revision is available for inspection at the following locations: National Park Service, Land Resources Program Center, Northeast Region, 200 Chestnut Street, Philadelphia, Pennsylvania, and National Park Service, Department of the Interior, 1849 C Street NW., Washington, DC 20240.

FOR FURTHER INFORMATION CONTACT: Superintendent John J. Donahue, Delaware Water Gap National Recreation Area, 1978 River Road (Off US209), Bushkill, PA 18324, telephone (570) 426-2418.

SUPPLEMENTARY INFORMATION: Notice is hereby given that, pursuant to 16 U.S.C. 460o-2(b), the boundary of Delaware Water Gap National Recreation Area is adjusted to include 287.99 acres of land, more or less, comprising four parcels of land: 68.03 acres (Block 903, Lot 40) in Sandyston Township, Sussex County, New Jersey; 41.56 acres (Section 112.00, Block 03, Lots 66, 67, and 68) in Dingman Township, Pike County, Pennsylvania; and 33.07 acres (Tax Parcel 09/3G/1/35) and 145.33 acres (Tax Parcels 09/3G/1/33 and 09/3G/1/2) in Middle Smithfield Township, Monroe County, Pennsylvania. This boundary adjustment is depicted on Map No. 620 123650 dated February 6, 2014.

16 U.S.C. 460o-2(b) states that the Secretary of the Interior may make adjustments in the boundary of Delaware Water Gap National Recreation Area by publication of the amended description thereof in the Federal Register: provided, that the area encompassed by such revised boundary shall not exceed the acreage included within the detailed boundary first described in the Federal Register on June 7, 1977 (Vol. 42, No. 109, pp 29071-29103). This boundary adjustment does not exceed the acreage of the detailed boundary so described. The Conservation Fund owns or holds an option for these properties and will convey their fee interests to the United States without cost to help mitigate the effects of the upgrade and expansion of the existing Susquehanna-Roseland electric transmission line across approximately 4.3 miles of the National Recreation Area.

Dated: March 28, 2014.
Michael Caldwell,
Acting Regional Director, Northeast Region.

[FR Doc. 2014-10370 Filed 5-5-14; 8:45 am]

BILLING CODE 4310-WV-P